RAILROAD RETIREMENT BOARD

20 CFR Parts 218 and 225

RIN 3220-AB54

Retirement Age

Correction

In rule document 03-16532 beginning on page 39009 in the issue of Tuesday, July 1, 2003 make the following corrections:

1. On page 39010, in the first column, in the second paragraph, in the last line, ““retirement age’” should read, ““retirement age””.

§§ 218.9, 218.12, 218.13, 218.16, 218.17, 218.36, 218.40, 218.43, and 218.44 [Corrected]

2. On the same page, in the second column, in §§ 218.9, 218.12, 218.13, 218.16, 218.17, 218.36, 218.40, 218.43, and 218.44, in amendatory instruction 2, in the last two lines, ““full retirement age’” should read, “full retirement age”.”.

§ 225.34 [Corrected]

3. On the same page, in the third column, in § 225.34, in amendatory instruction a., in the third line, ““full retirement age’” should read, ““full retirement age””.

§ 225.34 [Corrected]

4. On the same page, in the same column, in § 225.34, in the table, in the second column, the column heading “Delayed retirement (%) credit” should read, “Delayed retirement credit percent”.

5. On page 39011, in the first column, in the same section, in the table, in the second column, the column heading “Delayed retirement credit (%)” should read, “Delayed retirement credit percent”.

[FR Doc. C3-16532 Filed 7-31-03; 8:45 am]

BILLING CODE 1505-01-D